DEPARTMENT OF DEFENSE

Department of the Army; Corps of Engineers

Public Hearing and Notice of Availability for the Draft Environmental Impact Statement for the Proposed Widening of the Pascagoula Lower Sound/Bayou Casotte Channel, Jackson County, MS

AGENCY: Department of the Army, U.S. Army Corps of Engineers, DOD.

ACTION: Notice of availability.

SUMMARY: On April 6, 2011, the Jackson County Port Authority (JCPA) submitted an application to the U.S. Army Corps of Engineers (Corps), Mobile District, Mississippi Department of Environmental Quality (MDEQ) and the Mississippi Department of Marine Resources (MDMR) for authorization to impact wetlands and other waters of the United States associated with the proposed widening of the Pascagoula Lower Sound/Bayou Casotte Channel (the proposed project). The proposed project is located in the Pascagoula Lower Sound/Bayou Casotte, Pascagoula, Jackson County, Mississippi (Latitude 30.365° North, Longitude 88.556° West). The Corps prepared a Draft Environmental Impact Statement (DEIS) to assess the potential environmental impacts associated with the proposed project. The proposed project is the dredging of approximately 38,200 feet (7.2 miles) of the existing Pascagoula Lower Sound/Bayou Casotte Channel segment to widen the channel from the Federally authorized width of 350 feet and depth of −42 feet mean lower low water (MLLW) (with 2 feet of allowable over-depth and 2 feet of advanced maintenance) to a width of 450 feet, parallel to the existing channel centerline and to the existing Federally authorized depth of −42 feet MLLW. The proposed project would include the placement of approximately 3.35 million cubic yards of dredged material resulting from the channel modification.

DATES: The Corps will hold a public hearing to receive comments on the DEIS. The public hearing will be held May 10, 2012, 6 p.m., Grand Magnolia Ballroom, 3604 Magnolia Street, Pascagoula, Mississippi.

Written comments on the DEIS must be received no later than May 29, 2012.

Additional Information on how to submit comments is included in the (SUPPLEMENTARY INFORMATION) section.

FOR FURTHER INFORMATION CONTACT: Written and emailed comments to the Corps will be received until May 29, 2012. Correspondence concerning this Public Hearing should refer to Public Notice Number SAM-2011-00389-PAH and should be directed to the U.S. Army Engineer District, RD-C-M Attention: Mr. Philip Hegji, Post Office Box 2288, Mobile, Alabama 36628-0001, via email at philip.a.hegji@usace.army.mil or by phone at (251) 690-3222. We encourage any additional comments from interested public, agencies and local officials. For additional information about our Regulatory Program, please visit our web site at: www.sam.usace.army.mil/rd/reg/.

SUPPLEMENTARY INFORMATION: Availability of the Draft EIS: The DEIS will be made available to the public April 13, 2012. The public hearing will be held May 10, 2012, during the 45-day public comment period for the DEIS.

On April 6, 2011, the Jackson County Port Authority (JCPA) submitted an application to the U.S. Army Corps of Engineers (Corps), Mobile District, Mississippi Department of Environmental Quality (MDEQ) and the Mississippi Department of Marine Resources (MDMR) for authorization to impact wetlands and other waters of the United States associated with the proposed widening of the Pascagoula Lower Sound/Bayou Casotte Channel (the proposed project), Jackson County. The proposed project is located in the Pascagoula Lower Sound/Bayou Casotte, Pascagoula, Jackson County, Mississippi (Latitude 30.365° North, Longitude 88.556° West).

The Corps prepared a Draft Environmental Impact Statement (DEIS) to assess the potential environmental impacts associated with the proposed project. The proposed project is the dredging of approximately 38,200 feet (7.2 miles) of the existing Pascagoula Lower Sound/Bayou Casotte Channel segment to widen the channel from the Federally authorized width of 350 feet and depth of −42 feet mean lower low water (MLLW) (with 2 feet of allowable over-depth and 2 feet of advanced maintenance) to a width of 450 feet, parallel to the existing channel centerline and to the existing Federally authorized depth of −42 feet MLLW. The proposed project would include the placement of approximately 3.35 million cubic yards of dredged material resulting from the channel modification.

The JCPA requested a Department of the Army (DOA) permit pursuant to Section 10 of the Rivers and Harbors Act of 1899, Section 103 of the Marine Protection, Research and Sanctuaries Act and Section 404 of the Clean Water Act, including a Section 404(b)(1) analysis to help ensure compliance. The Corps is the lead Federal agency for the preparation of this DEIS in compliance with the requirements of the National Environmental Policy Act (NEPA) and the President's Council on Environmental Quality regulations for implementing NEPA. The National Marine Fisheries Service and the U.S. Coast Guard are cooperating agencies for the preparation of the EIS. This application was advertised by 30-day Public Notice April 15, 2011.

On April 13, 2012, a copy of the DEIS will be available for public review. The DEIS is available to the public at: www.sam.usace.army.mil/rd/reg. Hardcopies of the DEIS are available upon request from Mr. Philip A. Hegji, Corps Project Manager (contact information below). This document is being circulated to resource agencies and interested members of the public for a 45-day comment period ending May 29, 2012.

A public hearing will be held at 7 p.m. Thursday, May 10, 2012, at the Grand Magnolia Ballroom at 3604 Magnolia Street, Pascagoula, Mississippi. The public hearing will be held to provide information about the proposed project and to receive public input and comments on the DEIS. The Corps invites full public participation to promote open communication on the issues surrounding the DEIS. In addition, participation by Federal, State, local agencies and other interested organizations is encouraged. Both oral and written statements will be accepted at the hearing. An informal open house will be held from 6 p.m. until 7 p.m. in the Grand Magnolia Ballroom to allow the public the opportunity to become familiar with the proposed project prior to the start of the formal hearing. Displays of the proposed project and associated impacts will be available. Representatives from the JCPA will be present to answer questions concerning the project and Corps representatives will be available to answer questions concerning the Corps regulatory process.

The public hearing will be conducted in English. Those in need of language interpreters should contact the Corps' Public Involvement consultant, Crouch Environmental Services at (713) 868-1043, by Thursday, May 3, 2012.

Any comments received at the hearing will be considered by the Corps to determine whether to issue, modify, condition or deny a permit for this proposed project. All comments will be considered in the final EIS pursuant to NEPA. Comments are also used to help determine the overall public interest of the proposed project. All comments must be received or postmarked by May 29, 2012 (19 days following the public hearing).

Dated: April 5, 2012.
Cindy J. House-Pearson,
Chief, Regulatory Division.

[FR Doc. 2012-9627 Filed 4-19-12; 8:45 am]

BILLING CODE 3720-58-P